NUCLEAR REGULATORY COMMISSION

Advisory Committee on Reactor Safeguards, Meeting of the Subcommittee on Early Site Permits; Notice of Meeting

The ACRS Subcommittee on Early Site Permits will hold a meeting on March 8, 2006, Room T-2B3, 11545 Rockville Pike, Rockville, Maryland.

The entire meeting will be open to public attendance.

The agenda for the subject meeting shall be as follows:

Wednesday, March 8, 2006—8:30 a.m. until 1 p.m.

The Subcommittee will review the application for an early site permit for the Clinton site, and the associated NRC staff's Final Safety Evaluation Report. The Subcommittee will focus on the applicant's performance-based seismic hazard analysis methodology. The Subcommittee will hear presentations by and hold discussions with representatives of the NRC staff, Exelon Generation Company, LLC, and other interested persons regarding this matter. The Subcommittee will gather information, analyze relevant issues and facts, and formulate proposed positions and actions, as appropriate, for deliberation by the full Committee.

Members of the public desiring to provide oral statements and/or written comments should notify the Designated Federal Official, Mr. Michael R. Snodderly (telephone 301/415-6927) five days prior to the meeting, if possible, so that appropriate arrangements can be made. Electronic recordings will be permitted.

Further information regarding this meeting can be obtained by contacting the Designated Federal Official between 7:30 a.m. and 4:15 p.m. (ET). Persons planning to attend this meeting are urged to contact the above named individual at least two working days prior to the meeting to be advised of any potential changes to the agenda.

Dated: February 15, 2006.
Michael R. Snodderly,
Acting Branch Chief, ACRS/ACNW.

[FR Doc. E6-2588 Filed 2-22-06; 8:45 am]

BILLING CODE 7590-01-P